DEPARTMENT OF THE INTERIOR

Bureau of Indian Affairs

[212A2100DD/AAKC001030/A0A501010.999900253G]

Indian Gaming; Approval of Tribal-State Class III Gaming Compact in the State of Washington

AGENCY: Bureau of Indian Affairs, Interior.

ACTION: Notice.

SUMMARY: This notice publishes the approval of the Second Amendment to the Tribal-State Compact for Class III Gaming between the Cowlitz Indian Tribe (Tribe) and the State of Washington (State).

DATES: The compact takes effect on January 12, 2021.

FOR FURTHER INFORMATION CONTACT: Ms. Paula L. Hart, Director, Office of Indian Gaming, Office of the Deputy Assistant Secretary—Policy and Economic Development, Washington, DC 20240, (202) 219-4066.

SUPPLEMENTARY INFORMATION: Under section 11 of the Indian Gaming Regulatory Act (IGRA), Public Law 100-497, 25 U.S.C. 2701 et seq., the Secretary of the Interior shall publish in the Federal Register notice of approved Tribal-State compacts for the purpose of engaging in Class III gaming activities on Indian lands. As required by 25 CFR 293.4, all compacts and amendments are subject to review and approval by the Secretary. The Compact increases the number of player terminals the Tribe may operate, increases the Tribe's contribution to combat problem gambling, permits the Tribe's gaming facilities to accept additional forms of payment, designates the Cowlitz Tribal Court as a jurisdictional forum for certain purposes, adopts certain state law provisions related to gaming regulation, and adopts rules governing wide area progressives. The Compact is approved.

Tara Sweeney,
Assistant Secretary—Indian Affairs.

[FR Doc. 2021-00340 Filed 1-11-21; 8:45 am]

BILLING CODE 4337-15-P